DEPARTMENT OF HEALTH AND HUMAN SERVICES

National Institutes of Health

Center for Scientific Review; Amended Notice of Meeting

Notice is hereby given of a change in the meeting of the Center for Scientific Review Special Emphasis Panel, October 16, 2009, 8 a.m. to October 16, 2009, 5 p.m., Grand Hyatt Seattle, 721 Pine Street, Seattle, WA 98101 which was published in the Federal Register on September 22, 2009, 74 FR 48269-48273.

The time of the meeting on October 16, 2009 has been changed to 7:30 a.m. to 1:30 p.m. The meeting date and location remain the same. The meeting is closed to the public.

Dated: September 29, 2009.
Jennifer Spaeth,
Director, Office of Federal Advisory Committee Policy.

[FR Doc. E9-24032 Filed 10-6-09; 8:45 am]

BILLING CODE 4140-01-M